DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: HRSA AIDS Drug Assistance Program Quarterly Report OMB No. 0915-0294—Extension.

Abstract: HRSA's AIDS Drug Assistance Program (ADAP) is funded through Part B of Title XXVI of the Public Health Service Act, as amended by the Ryan White HIV/AIDS Treatment Extension Act of 2009 (The Ryan White HIV/AIDS Program), which provides grants to states and territories. ADAP provides medications for the treatment of HIV disease. Program funds may also be used to purchase health insurance for eligible clients or for services that enhance access, adherence, and monitoring of drug treatments.

Need and Proposed Use of the Information: Each of the 50 states, the District of Columbia, Puerto Rico, the Virgin Islands, and the Pacific territories receive ADAP grants. As part of the funding requirements, ADAP grantees submit quarterly reports that include information on patients served, pharmaceuticals dispensed, pricing, sources of support to provide HIV/AIDS medications, eligibility requirements, costs data, and coordination with Medicaid. Each quarterly report requests updates from programs on the number of patients served, type of pharmaceuticals dispensed, and prices paid to provide medications. The first quarterly report of each ADAP fiscal year (due in July of each year) also requests information that only changes annually (e.g., state funding, drug formulary, eligibility criteria for enrollment, and cost-saving strategies including coordination with Medicaid). The quarterly report is used to determine how ADAP grants are being expended and to provide answers to requests from Congress and other organizations.

Likely Respondents: Each of the 50 states, the District of Columbia, Puerto Rico, the Virgin Islands, and the Pacific territories that receive ADAP grants.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number responses per respondent | Average burden per response (in hours) | Total burden hours
ADAP Quarterly Report (Only Section 1 required for 4th quarterly report) | 57 | 1 | 17 | 969

Dated: February 12, 2014.
Jackie Painter,
Deputy Director, Division of Policy and Information Coordination.

[FR Doc. 2014-03676 Filed 2-20-14; 8:45 am]

BILLING CODE 4165-15-P